DEPARTMENT OF HEALTH AND HUMAN SERVICES

Substance Abuse and Mental Health Services Administration

Funding Opportunity Title: Notice of Funding Availability (NOFA) for Intervention Development and Evaluation Centers of the National Child Traumatic Stress Initiative (Short Title: NCTSI-IDE Centers)

Announcement Type: Initial.

Funding Opportunity Number: SM 04-009.

Catalog of Federal Domestic Assistance (CFDA) Number: 93.243.

Due Date for Application: June 10, 2004.

[Note: Letters from State Single Point of Contact (SPOC) in response to E.O. 12372 are due August 9, 2004.]

SUMMARY: The Substance Abuse and Mental Health Services Administration (SAMHSA), Center for Mental Health Services (CMHS), announces the availability of FY 2004 funds for Intervention Development and Evaluation Centers of the National Child Traumatic Stress Initiative (NCTSI-IDE Centers). A synopsis of this funding opportunity, as well as many other Federal Government funding opportunities, are also available at the Internet site: http://www.grants.gov.

For complete instructions, potential applicants must obtain a copy of SAMHSA's standard Service-to-Science Grants Announcement [STS-04 PA (MOD)], and the PHS 5161-1 (Rev. 7/00) application form before preparing and submitting an application. The STS-04 PA (MOD) describes the general program design and provides instructions for applying for all SAMHSA Service-to-Science Grants, including the NCTSI-IDE Centers. Additional instructions and specific requirements for this funding opportunity are described below.

I. Funding Opportunity Description

Authority: Section 582 of the Public Health Service Act, as amended and subject to the availability of funds.

The Intervention Development and Evaluation Centers of the National Child Traumatic Stress Initiative (NCTSI-IDE Centers) are SAMHSA Service-to-Science Grants. The purpose of NCTSI-IDE Center grants is to develop, deliver and evaluate improved treatment approaches and service delivery models within the NCTSI for specific types of trauma (e.g., child abuse or refugee trauma) and/or different service settings (e.g., schools or residential treatment centers), and/or diverse populations of traumatized children/adolescents (racial/ethnic, rural.) To complement the development of treatment approaches for acute and chronic trauma in children and adolescents, the IDE Centers also develop intervention manuals, and training procedures for service providers in effective trauma interventions. In their defined area of national expertise, IDE Centers serve as a resource for public and professional education, training, consultation and technical assistance on effective treatments and services.

This one-year funding announcement will allow the initial cohort of IDE Centers to continue activities begun during the current funding period, further refine specialized treatment approaches, tailor practice manuals for new service settings, and update procedures to disseminate intervention products nationally. Grantees may complete ongoing Phase I activities but may not begin new ones under this grant.

Expectations:

The major emphasis of the NCTSI-IDE Centers grant will be the development of intervention approaches, evaluation of these intervention approaches in community settings, or the development of processes for disseminating effective practices to a diverse array of providers and communities. These quantitative and qualitative evaluations must meet the Phase 2 requirements described in the STS-04 PA (MOD). At the end of this year of funding, SAMHSA expects the IDE Centers to have completed one evaluation for entrance in SAMHSA's National Registry of Effective Programs (NREP), a SAMHSA effort initiated in 1998 to search for and to certify effective substance abuse prevention and mental health interventions. SAMHSA intends to promote a more systematic collection of evaluation results and dissemination of effective service practices as a cornerstone of the NCTSN in the future.

A critical aspect of the IDE Centers is their role in the National Child Traumatic Stress Network. Therefore, applicants must describe the following when completing their applications:

• How they will develop, implement, evaluate and disseminate their intervention approaches within the existing framework of the National Child Traumatic Stress Network.

• How they participate in the current structure and operation of the NCTSN to develop intervention products within this collaborative framework.

• What consultation services, training, and resource development they provide to (1) other NCTSN centers, (2) local service programs, and (3) other service programs.

• For grantees who provide direct clinical services, their participation in clinical data collection, both in the development of clinical data collection protocols for the NCTSI network and collection of clinical data from service recipients.

• Assessment of effectiveness of training activities.

Applicants may build upon existing evaluation activities begun during the previous three years of funding. Applicants may do more than one evaluation, especially if several evaluations are underway or if several approaches have completed Phase I activities and are poised for evaluation. The desired endpoint for Phase II is the documented achievement of the intervention's effectiveness and readiness for submission in NREP or experimental study.

II. Award Information

1. Estimated Funding Available/Number of Awards: It is expected that up to $3 million will be available to fund up to 5 awards in FY 2004. The maximum allowable award is $600,000 in total costs (direct and indirect) for one year. Proposed budgets cannot exceed the allowable amount. The actual amount available for the award may vary, depending on unanticipated program requirements and the number and quality of the applications received.

2. Funding Instrument: Cooperative Agreement.

Role of Federal Staff

• Consult with Intervention Development and Evaluation Center project directors on all phases of the project to ensure accomplishment of the goals of the Initiative;

• Review critical project activities for conformity to the goals of NCTSI;

• Monitor the conduct and progress of NCTSI project activities;

• Provide feedback on project design and components;

• Participate in selected policy and steering groups or related work groups;

• Review quarterly reports and conduct site visits, as needed;

• Provide support services or recommend outside consultants, if needed;

• Author or co-author publications on program findings; and

• Provide technical assistance on ways to help disseminate and implement products of collaborative activities.

Role of Awardee

• Comply with the terms of the cooperative agreement award as specified in the requirements of the STS-04 PA (MOD), the Notice of Funding Availability (NOFA), and the Notice of Grant Award (NOGA);

• Participate in collaborative activities with other National Child Traumatic Stress Network (NCTSN) centers and other collaborative network activities;

• Participate in grantee meetings;

• Accept guidance and respond to requests for data from CMHS;

• Participate in policy steering groups and other work groups to help accomplish project goals;

• As appropriate, author or co-author publications on project results for use by the field;

• Participate in post-award, cross-site process and outcome evaluation activities; and

• Implement specified activities, data collection, and quality control; and

• Complete required SAMHSA reports.

III. Eligibility Information

1. Eligible Applicants are limited to the original cohort of five IDE Centers (Category II grantees) funded in FY 2001 under the National Child Traumatic Stress Initiative. These eligibility criteria supersede the criteria specified in Section III-1 of the STS-04 PA (MOD). SAMHSA/CMHS is currently funding four cohorts of IDE Center grantees with different start and end dates, as well as different project periods.

2. Cost Sharing or Matching is not required.

3. Other: Applicants must also meet certain application formatting and submission requirements or the application will be screened out and will not be reviewed. These requirements are described in Section IV-2 below as well as in the STS-04 PA (MOD).

IV. Application and Submission Information

1. Address to Request Application Package: Complete application kits may be obtained from: the National Mental Health Information Center at 1-800-789-2647. When requesting an application kit for this program, applicants must specify the funding opportunity title (NCTSI-IDE Centers) and the funding opportunity number (SM 04-009). All Information necessary to apply, including where to submit applications and application deadline instructions, is included in the application kit. The PHS 5161-1 application form is also available electronically via SAMHSA's World Wide Web Home Page: http://www.samhsa.gov (click on “Grant Opportunities”) and the STS-04 PA (MOD) is available electronically at http://www.samhsa.gov/grants/2004/standard/srv2sci/index.asp. When submitting an application, be sure to type “SM 04-009, NCTSI-IDE Centers” in Item Number 10 on the face page of the application form. Also, SAMHSA applicants are required to provide a DUNS Number on the face page of the application. To obtain a DUNS Number, access the Dun and Bradstreet Web site at http://www.dunandbradstreet.com or call 1-866-705-5711.

2. Content and Form of Application Submission: Additional information including required documents, required application components, and application formatting requirements is available in the STS-04 PA (MOD) in Section IV-2.

Checklist for Formatting Requirements and Screen out Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

❑ Use the PHS 5161-1 application.

❑ Applications must be received by the application deadline. Applications received after this date must have a proof of mailing date from the carrier dated at least 1 week prior to the due date. Private metered postmarks are not acceptable as proof of timely mailing. Applications not received by the application deadline or not postmarked at least 1 week prior to the application deadline will not be reviewed.

❑ Information provided must be sufficient for review.

❑ Text must be legible.

• Type size in the Project Narrative cannot exceed an average of 15 characters per inch, as measured on the physical page. (Type size in charts, tables, graphs, and footnotes will not be considered in determining compliance.)

• Text in the Project Narrative cannot exceed 6 lines per vertical inch.

❑ Paper must be white paper and 8.5 inches by 11.0 inches in size.

❑ To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

❑ The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

❑ The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard From LLL, which is in PHS 5161-1)

• Checklist (a form in PHS 5161-1)

❑ Applications should comply with the following requirements:

• Provisions relating to confidentiality, participant protection and the protection of human subjects, as indicated in the STS-04 PA (MOD).

• Budgetary limitations as specified in Section I, II, and IV-5 of the FY 2004 STS-04 PA (MOD).

• Documentation of nonprofit status as required in the PHS 5161-1.

❑ Pages should be typed single-spaced with one column per page.

❑ Pages should not have printing on both sides.

❑ Please use black ink, and number pages consecutively from beginning to end so that information can be located easily during review of the application. The cover page should be page 1, the abstract page should be page 2, and the table of contents page should be page 3. Appendices should be labeled and separated from the Project Narrative and budget section, and the pages should be numbered to continue the sequence.

❑ Send the original application and two copies to the mailing address in the funding announcement. Please do not use staples, paper clips, and fasteners. Nothing should be attached, stapled, folded, or pasted. Do not use any material that cannot be copied using automatic copying machines. Odd-sized and oversized attachments such as posters will not be copied or sent to reviewers. Do not include videotapes, audiotapes, or CD-ROMs.

3. Submission Dates and Times: Applications must be received by June 10, 2004. You will be notified by postal mail that your application has been received. Additional submission Information is available in the STS-04 PA (MOD) in Section IV-3.

4. Intergovernmental Review: Applicants for this funding opportunity must comply with Executive Order 12372 (E.O.12372). E.O.12372, as implemented through Department of Health and Human Services (DHHS) regulation at 45 CFR Part 100, sets up a system for State and local review of applications for Federal financial assistance. Instructions for complying with E.O. 12372 are provided in the STS-04 PA (MOD) in Section IV-4. A current listing of State Single Points of Contact (SPOCs) is included in the application kit and is available at http://www.whitehouse.gov/omb/grants/spoc.html.

5. Funding Restrictions: Information concerning funding restrictions is available in the STS-04 PA (MOD) in Section IV-5.

6. Other Submission Requirements: Instructions for submitting applications, including where and how to send applications, are provided in the STS-04 PA (MOD) in Section IV-6.

V. Application Review Information

1. Evaluation Criteria: Applications will be reviewed against the Evaluation Criteria and requirements for the Project Narrative specified in the STS-04 PA (MOD). The following information describes exceptions or limitations to the STS-04 PA (MOD) and provides special requirements that pertain only to the NCTSI-IDE Centers cooperative agreements. Applicants must discuss the following requirements in their applications, in addition to the requirements specified in the STS-04 PA (MOD). Applicants may apply for Phase I and Phase II combined or Phase II only. Grantees may complete ongoing Phase I activities, but may not begin new ones. Applications for Phase I alone will not be accepted.

1.1 Allowable Activities:

(a) In addition to the allowable activities stated in the STS-04 PA (MOD), applicants must collaborate with other grantees within the National Child Traumatic Stress Network in completing their Phase I and Phase II activities.

(b) IDE Centers are permitted to provide and support services in inpatient settings.

1.2 In “Section A: Statement of Need:”

(a) Given the efforts that have been implemented during the previous three-year grant cycle, applicants should complete the Statement of Need by defining the need/problem as the remaining work of the network or service gaps related to the IDE Center's trauma focus.

(b) Rather than provide a literature review in their area of child trauma expertise, applicants must describe the following in this section:

(1) Accomplishments in providing leadership within the NCTSN in area(s) of trauma expertise;

(2) Participation of current center staff in network collaborative activity;

(3) Progress on identifying/developing intervention approaches;

(4) Accomplishments in collaborating with other NCTSI-IDE, and with Community Treatment and Service Centers (Category III grantees).

(5) Progress in developing approaches to disseminating practices that have a documented evidence base; and

(6) Progress on dissemination of effective evidence-based practices.

1.2a In “Section B: Proposed Approach:”

In Section B, applicants should describe a proposed approach for addressing the problem/s described in Section A. At least one major intervention approach must meet most of the criteria specified for readying the “practice” for evaluation as described in the standard announcement. The discussion of the “practice” for evaluation should indicate which of the criteria have been addressed and the plan for meeting any criteria that have not been addressed. For example, applicants that do not currently have a logic model for their intervention approaches must provide a plan for developing a logic model.

Applicants may provide information and documentation on multiple practices that are at different stages of development, standardization, and dissemination. If applicants intend to enhance work on these, applicants must include documentation for the additional practices considered ready for systematic evaluation in Appendix 2. Applicants must indicate that they will participate in cross-site evaluation efforts. Applicants should refer to Section I-Expectations of this NOFA when completing Section B of their applications.

1.3 In “Section C: Evaluation Design and Analysis:”

(a) Applicants should refer to Section I-Expectations of this NOFA when completing Section C of their applications.

(b) For those IDE Centers which have already completed the evaluation of an intervention approach and another evaluation is not feasible within the year, these applicants may select among the following evaluation options:

(1) Choose to test other related interventions;

(2) Prepare other communities to replicate the specific practice with the objective of subsequent evaluation;

(3) Document and evaluate particular elements of the existing evidence-based practice that need further study.

1.4 In “Section D: Management Plan and Staffing:”

In addition to describing the adequacy of staffing for administering the management aspects of the grant, applicants must describe the expertise and experience of staff in providing services, intervention development, and/or training in the specialized areas of child trauma for which the IDE is responsible.

1.5 Performance Measurement

All SAMHSA grantees are required to collect and report certain data, so that SAMHSA can meet its obligations under the Government Performance and Results Act (GPRA). Grantees of the NCTSI-IDE Centers will be required to report performance in: (1) increasing the number of children and adolescents reached by improved services; and (2) improving children's outcomes. Applicants must document their ability to collect and report the required data in “Section C: Evaluation Design and Analysis” of their applications.

2. Review and Selection Process

Information about the review and selection process is available in the STS-04 PA (MOD) in Section V-2. Because eligibility is limited to NCTSI-IDE Centers grantees funded in FY 2001, equitable distribution of awards in terms of geographic criteria does not apply.

VI. Award Administration Information

Award administration information, including award notices, administrative and national policy requirements, and reporting requirements are available in the STS-04 PA (MOD) in Section VI. SAMHSA's standard terms and conditions are available at http://www.samhsa.gov/grants/2004/useful_info.asp. In addition to the reporting requirements stated in the STS-04 PA (MOD), applicants must provide quarterly progress reports, as well as an annual evaluation report.

VII. Agency Contact for Additional Information

For questions about program issues contact: Malcolm Gordon, Ph.D., Division of Prevention, Traumatic Stress, and Special Programs, SAMHSA/CMHS, 5600 Fishers Lane, Room 15-77, Rockville, MD 20857; 301-443-2957; E-mail: mgordon@samhsa.gov. For questions on grants management issues contact: Gwendolyn Simpson, SAMHSA/Division of Grants Management, 5600 Fishers Lane, Room 13-105, Rockville, MD 20857; 301-443-3896; E-mail: gsimpson@samhsa.gov.

Dated: April 2, 2004.
Daryl Kade,
Director, Office of Policy, Planning and Budget, Substance Abuse and Mental Health Services Administration.

[FR Doc. 04-7910 Filed 4-7-04; 8:45 am]

BILLING CODE 4162-20-P